DEPARTMENT OF COMMERCE

National Oceanic and Atmospheric Administration

RIN 0648-XG323

New England Fishery Management Council; Public Meeting

AGENCY: National Marine Fisheries Service (NMFS), National Oceanic and Atmospheric Administration (NOAA), Commerce.

ACTION: Notice of public hearings, request for comments

SUMMARY: The New England Fishery Management Council (Council) will hold five public hearings to solicit Public comments on Draft Amendment 22 to the Northeast Multispecies Fishery Management Plan (FMP), including a Draft Environmental Impact Statement (DEIS). To meet the purpose and need, this amendment proposes alternatives that would initiate a limited access program for the small-mesh multispecies fishery, adjust whiting and red hake possession limits, and modify permit types and characteristics making them consistent with limited access.

DATES: These meetings will be held between July 19-26, 2018. For specific dates and times, see SUPPLEMENTARY INFORMATION. Written or Electronic Public comments must be received on or before 5 p.m. EST, August 6, 2018.

ADDRESSES: The hearing documents are accessible electronically via the internet https://www.nefmc.org/library/amendment-22 or by request to Thomas A. Nies, Executive Director. New England Fishery Management Council, 50 Water Street, Mill 2, Newburyport, MA 01950, telephone: (978) 465-0492.

Meeting address: The meetings will be held in Gloucester, MA; Tinton Falls, NJ; Montauk, NY; Warwick, RI and New Bedford, MA. For specific locations, see SUPPLEMENTARY INFORMATION.

Public Comments: Written public hearing comments on the DEIS for Amendment 22 may be sent by any of the following methods: Mail to Thomas A. Nies, Executive Director, New England Fishery Management Council, 50 Water Street, Mill 2, Newburyport, MA 01950; email to the following address: comments@nefmc.org with “DEIS for Amendment 22 to the Northeast Multispecies FMP ” in the subject line. Or fax to (978) 465-3116.

FOR FURTHER INFORMATION CONTACT: Thomas A. Nies, Executive Director, New England Fishery Management Council; telephone: (978) 465-0492.

SUPPLEMENTARY INFORMATION:

Public Hearing, Dates and Locations:

The agenda for the following five hearings is as follows: Council staff will brief the public on the amendment's alternatives and the contents of the DEIS prior to opening the hearing for public comments and the schedule is as follows:

Public Hearings: Locations, Schedules, and Agendas

1. Thursday, July 19, 2018, 4-6 p.m., MA DMF of Marine Fisheries, Annisquam River Marine Fisheries Station, 30 Emerson Ave, Gloucester, MA 01930;

2. Monday, July 23, 2018, 7-9 p.m., DoubleTree by Hilton, 700 Hope Drive, Tinton Falls, NJ 07244;

3. Tuesday, July 24, 2018, 5-7 p.m., Montauk Playhouse Community Center Foundation Inc., 240 Edgemere Street, Montauk, NY 11954;

4. Wednesday, July 25, 2018, 7-9 p.m., Hampton Inn & Suites, 2100 Post Road, Warwick, RI 02886;

5. Thursday, July 26, 2018, 7-9 p.m., Fairfield Inn & Suites, 185 MacArthur Drive, New Bedford, MA 02740.

Additional information on the review is available on the Council website, www.nefmc.org. The public also should be aware that the hearings will be recorded. Consistent with 16 U.S.C. 1852, a copy of the recording is available upon request.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated:
June 27, 2018.
Tracey L. Thompson,
Acting Deputy Director, Office of Sustainable Fisheries, National Marine Fisheries Service.

[FR Doc. 2018-14138 Filed 6-29-18; 8:45 am]

BILLING CODE 3510-22-P